DEPARTMENT OF ENERGY

Federal Energy Regulatory Commission

[Docket No. RP01-245-002]

Transcontinental Gas Pipe Line Corporation; Notice of Refund Report

July 31, 2001.

Take notice that on July 16, 2001 Transcontinental Gas Pipe Line Corporation (Transco) tendered for filing with the Commission a refund report showing that on June 22, 2001, Transco submitted refunds/surcharges to the affected SunBelt expansion shippers in Docket No. RP01-245-001. Transco states that the total refund/surcharge amount, including interest, was $277.82.

Transco states that copies of the filing are being mailed to the affected SunBelt expansion shippers and interested State Commissions.

Any person desiring to protest said filing should file a protest with the Federal Energy Regulatory Commission, 888 First Street, NE., Washington, DC 20426, in accordance with Section 385.211 of the Commission's Rules and Regulations. All such protests must be filed on or before August 7, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary

[FR Doc. 01-19541 Filed 8-2-01; 8:45 am]

BILLING CODE 6717-01-P